DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register Notice with a 60-day comment period soliciting public comments on the following information collection was published on June 13, 2011 (Federal Register/Vol. 76, No. 113/pp. 34290-34291).

DATES: Submit comments to the Office of Management and Budget (OMB) on or before January 30, 2012.

FOR FURTHER INFORMATION CONTACT: Alan Block at the National Highway Traffic Safety Administration, Office of Behavioral Safety Research (NTI-131), W46-499, Department of Transportation, 1200 New Jersey Avenue SE., Washington, DC 20590. Mr. Block's phone number is (202) 366-6401 and his email address is alan.block@dot.gov

SUPPLEMENTARY INFORMATION:

OMB Control Number: 2127-New.

Title: The National Survey of Pedestrian and Bicyclist Attitudes, Knowledge, and Behaviors.

Form No.: NHTSA Form 1148.

Type of Review: Regular.

Respondents: Telephone interviews will be administered to a national sample of people 16 and older who have access to a residential landline and/or a personal cell phone.

Estimated Number of Respondents: 15 pre-test respondents and 9,000 survey respondents.

Estimated Time per Response: 20 minutes per interview.

Total Estimated Annual Burden Hours: 3,005 hours.

Frequency of Collection: The survey will be administered a single time.

Abstract: The National Highway Traffic Safety Administration (NHTSA) proposes to collect information from the public to ascertain the scope and magnitude of bicycle and pedestrian activity and the public's behavior and attitudes regarding bicycling and walking. A national telephone survey will be administered to 9,000 randomly selected respondents drawn from all 50 States and the District of Columbia. The national survey will be preceded by a pretest administered to 15 respondents. The survey will ask about the characteristics of bicycling and walking trips, conspicuity, community design for bicycling and walking, bicycle helmet use, and general opinions about bicycling and walking. Interview length will average 20 minutes. NHTSA will use the findings from this proposed collection of information to assist States, localities, and communities in developing and refining bicycling and walking safety programs.

In conducting the proposed telephone interviews, the interviewers would use computer-assisted telephone interviewing to reduce interview length and minimize recording errors. No personally identifiable information will be collected during the telephone interviews.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: (202) 395-5806.

Comments Are Invited On: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. Section 3506(c)(2)(A).

Issued in Washington, DC, on December 23, 2011.
Jeff Michael,
Associate Administrator, Research and Program Development.

[FR Doc. 2011-33473 Filed 12-28-11; 8:45 am]

BILLING CODE 4910-59-P